DEPARTMENT OF AGRICULTURE

Agricultural Marketing Service

[Doc. No. AMS-LP-23-0042]

Notice of Request for Extension of a Currently Approved Information Collection

AGENCY: Agricultural Marketing Service, USDA.

ACTION: Notice and request for comments.

SUMMARY: In accordance with the Paperwork Reduction Act of 1995, this notice announces the Agricultural Marketing Service's (AMS) intention to request approval from the Office of Management and Budget (OMB) for an extension of the currently approved information collection, “Livestock, Poultry, and Grain Market News” (OMB 0581-0033).

DATES: Comments on this notice must be received by October 30, 2023 to be assured of consideration.

ADDRESSES: Interested persons are invited to submit comments concerning this notice by using the electronic process available at https://www.regulations.gov. All comments should reference the document number and the date and the page number of this issue of the Federal Register. Written comments may be submitted via mail to Russell Avalos, Assistant to the Director; Livestock, Poultry, and Grain Market News Division; Livestock and Poultry Program; Agricultural Marketing Service, U.S. Department of Agriculture, 1400 Independence Ave. SW, Room 2619-S, STOP 0252; Washington, DC 20250-0252; Telephone (202) 738-2112; or Email Russell.Avalos@usda.gov. All comments received will be posted without change, including any personal information provided, at https://www.regulations.gov and will be included in the record and made available to the public. Please do not include personally identifiable information (such as name, address, or other contact information) or confidential business information that you do not want publicly disclosed. Comments may be submitted anonymously.

FOR FURTHER INFORMATION CONTACT: Russell Avalos, Assistant to the Director; Livestock, Poultry, and Grain Market News Division; Livestock and Poultry Program; Telephone (202) 738-2112; or Email Russell.Avalos@usda.gov.

SUPPLEMENTARY INFORMATION:

Title: Livestock, Poultry, and Grain Market News.

OMB Number: 0581-0033.

Expiration Date of Approval: October 31, 2023.

Type of Request: Request for extension of a currently approved information collection.

Abstract: The Agricultural Marketing Act of 1946 (7 U.S.C. 1621-1627), as amended, authorizes the Secretary of Agriculture to provide timely nationwide coverage of prices, supply, demands, trends, movement, and other pertinent information affecting the trading of livestock, poultry, meat, eggs, grain, and their related products, as well as locally produced and marketed products. The market reports compiled and disseminated by the Livestock, Poultry, and Grain Market News (LPGMN) Division provide current, unbiased, and factual information to all stakeholders in the U.S. agricultural industry. Market News reports assist producers, processors, wholesalers, retailers, and others to make informed production, purchasing, and sales decisions. LPGMN reports also promote orderly marketing by placing buyers and sellers on a more equal negotiation basis.

LPGMN reporters communicate with buyers and sellers of livestock, poultry, meat, eggs, grain, local products, and their respective commodities on a daily basis to accomplish the Division's mission. This communication and information gathering is accomplished through the use of telephone conversations, facsimile transmissions, face-to-face meetings, and email messages. The information provided by respondents initiates Market News reporting, which must be timely, accurate, unbiased, and continuous if it is to be meaningful to the industry. AMS collects information on price, supply, demand, trends, movement, and other information of livestock, poultry, meat, grain, eggs, local products, and their respective commodities.

Estimate of Burden: Public reporting burden for this collection of information is estimated to average .058 hours per response.

Respondents: Business or other for-profit and farms.

Estimated Number of Respondents: 3,220.

Estimated Total Annual Responses: 299,800.

Estimated Number of Responses per Respondent: 93.

Estimated Total Annual Burden on Respondents: 17,970.

Comments are invited on: (1) whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Melissa Bailey,
Associate Administrator, Agricultural Marketing Service.

[FR Doc. 2023-18715 Filed 8-29-23; 8:45 am]

BILLING CODE P